DEPARTMENT OF THE INTERIOR

Bureau of Land Management

[NM-010-1430-ES; NMNM 100202]

Notice of Realty Action; Recreation and Public Purpose (R&PP) Act Classification; New Mexico

AGENCY: Bureau of Land Management, Interior.

ACTION: Notice.

SUMMARY: The following public lands in Sandoval County, New Mexico have been examined and found suitable for classification for lease to the Cuba Soil and Water Conservation District under the provisions of the Recreation and Public Purposes Act, as amended (43 U.S.C. 869 et seq.). The Cuba Soil and Water Conservation District proposes to use the lands for an outdoor classroom and administrative site.

New Mexico Principal Meridian

T. 20 N., R. 1 W., sec. 5, NW¼SW¼NW¼ and W½NE¼SW¼NW¼.

Containing 15.00 acres, more or less.

The lands are not needed for Federal purposes. Lease is consistent with current BLM land use planning and would be in the public interest.

The lease, when issued, will be subject to the following terms, conditions and reservations:

1. Provisions of the Recreation and Public Purposes Act and to all applicable regulations of the Secretary of the Interior.

2. A right-of-way for ditches and canals constructed by the authority of the United States.

3. All minerals shall be reserved to the United States, together with the right to prospect for, mine, and remove the minerals.

4. All valid existing rights documented on the official public land records at the time of lease/patent issuance.

5. Any other reservations that the authorized officer determines appropriate to ensure public access and proper management of Federal lands and interests therein.

Detailed information concerning this action is available for review at the office of the Bureau of Land Management, Albuquerque Field Office, 435 Montano NE, Albuquerque, New Mexico.

Upon publication of this notice in the Federal Register, the lands will be segregated from all other forms of appropriation under the public land laws, including the general mining laws, except for lease under the Recreation and Public Purposes Act and leasing under the mineral leasing laws. For a period of 45 days from the date of publication of this notice in the Federal Register, interested persons may submit comments regarding the proposed lease or classification of the lands to the Field Manager, Albuquerque Field Office, 435 Montano NE, Albuquerque, NM 87107.

Classification Comments

Interested parties may submit comments involving the suitability of the land for an outdoor classroom and administrative site. Comments on the classification are restricted to whether the land is physically suited for the proposal, whether the use will maximize the future use or uses of the land, whether the use is consistent with local planning and zoning, or if the use is consistent with State and Federal programs.

Application Comments

Interested parties may submit comments regarding the specific use proposed in the application and plan of development, whether the BLM followed proper administrative procedures in reaching the decision, or any other factor not directly related to the suitability of the land for an outdoor classroom and administrative site.

Any adverse comments will be reviewed by the State Director. In the absence of any adverse comments, the classification will become effective 60 days from the date of publication of this notice in the Federal Register.

Dated: August 5, 2002.
Edwin J. Singleton,
Albuquerque Field Manager.

[FR Doc. 02-32370 Filed 12-23-02; 8:45 am]

BILLING CODE 4310-FB-P